DEPARTMENT OF TRANSPORTATION

Federal Aviation Administration

Sixth Meeting: Special Committee (229) 406 MHz Emergency Locator Transmitters (ELTs)

AGENCY: Federal Aviation Administration (FAA), U.S. Department of Transportation (DOT).

ACTION: Notice of Sixth Special Committee 229 Meeting.

SUMMARY: The FAA is issuing this notice to advise the public of the sixth Special Committee 229 meeting.

DATES: The meeting will be held December 15th-17th from 9:00 a.m.—5:00 p.m.

ADDRESS: The meeting will be held at ICAO Paris Regional Office, 3 bis Villa Emile Bergerat, 92522 Neuilly sur Seine, France, Tel: (202) 330-0652.

FOR FURTHER INFORMATION CONTACT: The RTCA Secretariat, 1150 18th Street NW., Suite 910, Washington, DC, 20036, or by telephone at (202) 833-9339, fax at (202) 833-9434, or Web site at http://www.rtca.org or Sophie Bousquet, Program Director, RTCA, Inc., sbousquet@rtca.org, (202) 330-0663.

SUPPLEMENTARY INFORMATION: Pursuant to section 10(a) (2) of the Federal Advisory Committee Act (Pub. L. 92-463, 5 U.S.C., App.), notice is hereby given for a meeting of Special Committee 229. The agenda will include the following:

Tuesday, December 15, 2015 (9:30-5:00)

1. Welcome/Introductions/Administrative Remarks

2. Agenda overview and approval

3. Minutes Washington DC meeting review and approval

4. Review Action Items from Washington DC Meeting

5. “Phasing in” RTCA/DO-204B, EUROCAE/ED-62B requirements—discussion

6. Briefing of ICAO and COSPAS-SARSAT activities

7. WG 1 to 5 status and week's plan

8. Other Industry coordination and presentations

9. Resolution of open consultation/MASPS comments

10. WG meetings (rest of the day)

Wednesday, December 16, 2015 (9:00-5:00)

1. WG 2 to 5 meetings

Thursday, December 17, 2015 (9:30-4:00)

1. WG 2—5 meetings (if needed)

2. WGs' reports

3. Approval of the MASPS ED-237 document for the Council

4. Action item review

5. Future meeting plans and dates

6. Industry coordination and presentations (if any)

7. Other business

8. Adjourn

Attendance is open to the interested public but limited to space availability. With the approval of the chairman, members of the public may present oral statements at the meeting. Persons wishing to present statements or obtain information should contact the person listed in the FOR FURTHER INFORMATION CONTACT section. Contact Philippe and Stuart at pph@bea-fr.org and stuart@hrsmith.biz to attend both the meeting and dinner no later than December 1, 2015. Members of the public may present a written statement to the committee at any time.

Issued in Washington, DC, on September 17, 2015.
Latasha Robinson,
Management & Program Analyst, Next Generation, Enterprise Support Services Division, Federal Aviation Administration.

[FR Doc. 2015-24012 Filed 9-21-15; 8:45 am]

BILLING CODE 4910-13-P